DEPARTMENT OF THE TREASURY

Submission for OMB Review; Comment Request

October 4, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 10, 2005 to be assured of consideration.

Internal Revenue Service (IRS)

OMB Number: 1545-1028.

Type of Review: Extension.

Title: INTL-941-86 (NPRM) and INTL-655-87 (Temporary) Passive Foreign Investment Companies.

Description: These regulations specify how U.S. persons who are shareholders of Passive Foreign Investment Companies (PFIC's) make elections with respect to their PFIC stock.

Respondents: Business or other for-profit.

Estimated Total Burden Hours: 112,500 hours.

OMB Number: 1545-1209.

Type of Review: Extension.

Title: IA-83-90 (Final) Disclosure of Tax Return Information for Purposes of Quality or Peer Review; Disclosure of Tax Return Information Due to Incapacity or Death of Tax Return Preparer.

Description: These regulations govern the circumstances under which tax return information may be disclosed for purposes of conducting quality or peer reviews and disclosure that are necessary because of the tax return preparer's death or incapacity.

Respondents: Business or other for profit.

Estimated Total Burden Hours: 250,000 hours.

OMB Number: 1545-1421.

Type of Review: Extension.

Title: IA-62-93 (Final) Certain Elections under the Omnibus Budget Reconciliation Act of 1933.

Description: These regulations establish various elections enacted by the Omnibus Budget Reconciliation Act of 1993 (Act). The regulations provide guidance that enable taxpayers to take advantage of various benefits provided by the Act and the Internal Revenue Code.

Respondents: Business or other for-profit, and Individuals or households and farms.

Estimated Total Burden Hours: 202,500 hours.

OMB Number: 1545-1661.

Type of Review: Extension.

Title: REG-10610-98 (Final) Qualified Lessee Construction Allowances for Short-Term Leases.

Description: The regulation provide guidance with respect to section 110, which provides a safe harbor whereby it will be assumed that a construction allowance provided by a lessor to be a lessee is used to construct or improve lessor property when long-term property is constructed or improved and pursuant to a short-term lease. The regulations also provide a reporting requirement that ensures that both the lessee and the lessor consistently treat the property subject to the construction allowance as nonresidential real property owned by the lessor.

Respondents: Business or other for-profit.

Estimated Total Burden Hours: 10,000 hours.

OMB Number: 1545-1662.

Type of Review: Extension.

Title: REG-121063-97 (Final) Averaging of Farm Income.

Description: Code section 1301 allows an individual engaged in a farming business to elect to reduce his or her regular tax liability by treating all or a portion of the current year's farming income as if it had been earned in equal proportions over the prior three years. The regulation provides that the election for averaging farm income is made by filling Schedule J of Form 1040, which is also used to record and total the amount of tax for each year of the four year calculation.

Respondents: Individuals or household and Farms.

Estimated Total Burden Hours: 1 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-20335 Filed 10-7-05; 8:45 am]

BILLING CODE 4830-01-P